DEPARTMENT OF TRANSPORTATION

Surface Transportation Board

[STB Finance Docket No. 34771]

Union Pacific Railroad Company and Wichita Terminal Association—Trackage Rights Exemption—BNSF Railway Company

BNSF Railway Company (BNSF) has agreed to grant local trackage rights to Union Pacific Railroad Company (UP), and to the exercise of those rights by UP's agent, Wichita Terminal Association (WTA), over BNSF's line of railroad between BNSF milepost 209.3 and BNSF milepost 212.5, a distance of approximately 3.2 miles in Wichita, KS.

The transaction was scheduled to be consummated on November 1, 2005. The purpose of the trackage rights is to allow UP access to the Ralston Purina Plant (RPP) (its successors and assigns), located in Wichita. UP has advised that, under the agreement, UP may provide service to RPP or use WTA as its agent to exercise the rights granted and to provide service to RPP.

As a condition to this exemption, any employees affected by the acquisition of the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34771, must be filed with the Surface Transportation Board, 1925 K Street, NW., Washington, DC 20423-0001. In addition, a copy of each pleading must be served on Robert T. Opal, General Commerce Counsel, Union Pacific Railroad Company, 1400 Douglas Street, Stop 1580, Omaha, NE 68179.

Board decisions and notices are available on our Web site at http://www.stb.dot.gov.

Decided: November 2, 2005.
By the Board, David M. Konschnik, Director, Office of Proceedings.
Vernon A. Williams,
Secretary.

[FR Doc. 05-22211 Filed 11-8-05; 8:45 am]

BILLING CODE 4915-01-P